FEDERAL COMMUNICATIONS COMMISSION

47 CFR Part 73

[MB Docket No. 23-14; RM-11943; DA 23-221; FR ID 132667]

Television Broadcasting Services Roanoke, Virginia

AGENCY: Federal Communications Commission.

ACTION: Final rule.

SUMMARY: On January 11, 2023, the Media Bureau, Video Division (Bureau) issued a Notice of Proposed Rulemaking (NPRM) in response to a petition for rulemaking filed by Blue Ridge Public Television, Inc. (Petitioner or Blue Ridge PBS), the licensee of noncommercial educational television PBS member station WBRA-TV (WBRA-TV or Station), channel *3, Roanoke, Virginia, requesting the substitution of channel *13 in place of channel *3 at Roanoke in the Table of TV Allotments. For the reasons set forth in the Report and Order referenced below, the Bureau amends FCC regulations to substitute channel *13 for channel *3 at Roanoke.

DATES: Effective March 24, 2023.

FOR FURTHER INFORMATION CONTACT: Joyce Bernstein, Media Bureau, at (202) 418-1647, Joyce.Bernstein@fcc.gov; or Emily Harrison, Media Bureau, at (202) 418-1665, Emily.Harrison@fcc.gov.

SUPPLEMENTARY INFORMATION: The proposed rule was published at 88 FR 3680 on January 20, 2023. The Petitioner filed comments in support of the petition reaffirming its commitment to apply for channel *13. No other comments were filed.

The Bureau believes the public interest would be served by substituting channel *13 for channel *3 at Roanoke, Virginia. The proposed channel substitution will improve viewers' access to the Station's PBS and other public television programming by improving reception and resolving low-VHF reception issues. The Petitioner further states that the Commission has recognized that although VHF reception issues are not universal, “environmental noise blockages affecting [VHF] signal strength and reception exist” and “[vary] widely from service area to service area.” According to the Petitioner, the Station's move from channel *3 to channel *13 is predicted to create an area where 64,309 persons are predicted to lose service without considering the service from other PBS stations. When taking into account the service provided by noncommercial educational stations WUNC-TV and WUNL-TV to the WBRA-TV noise limited service contour area, only 94 persons are predicted to lose access to PBS network programming, which is de minimis.

This is a synopsis of the Commission's Report and Order, MB Docket No. 23-14; RM-11943; DA 23-221, adopted March 15, 2023, and released March 15, 2023. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(j), amend the Table of TV Allotments, under Virginia, by revising the entry for Roanoke to read as follows:

§ 73.622 Digital television table of allotments.

* * * * *

(j) * * *

Community | Channel No.
* * * * *
VIRGINIA
* * * * *
Roanoke | * 13, 27, 30, 34, 36.
* * * * *

[FR Doc. 2023-06095 Filed 3-23-23; 8:45 am]

BILLING CODE 6712-01-P